DEPARTMENT OF ENERGY

Blue Ribbon Commission on America's Nuclear Future

AGENCY: Department of Energy, Office of Nuclear Energy.

ACTION: Notice of open meeting.

SUMMARY: This notice announces an open meeting of the Blue Ribbon Commission on America's Nuclear Future (the Commission). The Commission was organized pursuant to the Federal Advisory Committee Act (Pub. L. 92-463, 86 Stat. 770) (the Act). This notice is provided in accordance with the Act.

DATES: Thursday, January 6, 2011; 1 p.m.-5 p.m. EST. Friday, January 7, 2011; 8 a.m.-3:30 p.m. EST.

ADDRESSES: Augusta Marriott Hotel and Suites, Two Tenth Street, Augusta, GA 30901, (706) 722-8900.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information may also be available at http://www.brc.gov.

SUPPLEMENTARY INFORMATION: This notice is being published less that 15 days from the date of the meeting and tour due to logistical circumstances and the inability to delay and reschedule the meeting and tour in a timely fashion. In addition, the dates for the meeting and tour have been publicly known for several weeks and posted on http://www.brc.gov.

Background: The President directed that the Blue Ribbon Commission on America's Nuclear Future (the Commission) be established to conduct a comprehensive review of policies for managing the back end of the nuclear fuel cycle. The Commission will provide advice and make recommendations on issues including alternatives for the storage, processing, and disposal of civilian and defense spent nuclear fuel and nuclear waste.

The Commission is scheduled to submit a draft report to the Secretary of Energy by July 2011, and a final report by January 2012.

Purpose of the Meeting: The meeting will provide the Commission with a range of local and regional perspectives from a wide variety of individuals and organizations. The Commission will also tour the Savannah River Site to see first-hand the site's facilities involved in the treatment, packaging and storage of used fuel and high-level wastes and other facilities related to the back end of the nuclear fuel cycle.

Tentative Agenda: The site tour is expected to start at 1 p.m. on January 6 with the Commissioners touring relevant areas of the Savannah River Site. The meeting on January 7 will begin at 8 a.m. at the Augusta Marriott Hotel and Suites. The Commission will hear presentations and statements from various stakeholder groups, and ask questions of the presenters, to provide additional information for Commission consideration. The meeting on January 7 is expected to conclude with public statements starting at approximately 2:30 p.m. The meeting will end by 3:30 p.m.

Public Participation: A drive-by tour of some of the Savannah River Site facilities is being offered to the general public on a first come, first served basis. Registration for the public tour will open at 8 a.m. on Monday, January 3, 2011, and close at 5 p.m. on Tuesday, January 4, 2011. Individuals interested in the public tour may register by calling 803-952-8467. A limited number of seats are available.

Individuals and representatives of organizations who would like to offer comments and suggestions may do so at the end of the meeting on January 7, 2011. Approximately one hour will be reserved for public comments. Time allotted per speaker will depend on the number who wish to speak but will not exceed five minutes. The Designated Federal Officer is empowered to conduct the meeting in a fashion that will facilitate the orderly conduct of business. Those wishing to speak should register to do so beginning at 8 a.m. on January 7, 2011, at the Augusta Marriott Hotel and Suites. Registration to speak will close at 1 p.m., January 7, 2011.

Those not able to attend the meeting or have insufficient time to address the committee are invited to send a written statement to Timothy A. Frazier, U.S. Department of Energy, 1000 Independence Avenue, SW., Washington, DC 20585, e-mail to CommissionDFO@nuclear.energy.gov, or post comments on the Commission Web site at http://www.brc.gov.

Additionally, the meeting will be available via live webcast. The link will be available at http://www.brc.gov.

Minutes: The minutes of the meeting will be available at http://www.brc.gov or by contacting Mr. Frazier. He may be reached at the postal address or e-mail address above.

Issued in Washington, DC, on December 22, 2010.
LaTanya R. Butler,
Acting Deputy Committee Management Officer.

[FR Doc. 2010-32579 Filed 12-27-10; 8:45 am]

BILLING CODE 6450-01-P